DEPARTMENT OF DEFENSE

Office of the Secretary

[Transmittal No. 16-38]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Chang Suh, DSCA/SA&E/RAN, (703) 697-8975.

The following is a copy of a letter to the Speaker of the House of Representatives, Transmittal 16-38 with attached Policy Justification.

Dated: November 1, 2016.
Aaron Siegel,
Alternate OSD Federal Register Liaison Officer, Department of Defense.

BILLING CODE 5001-06-P

BILLING CODE 5001-06-C

Transmittal No. 16-38

Notice of Proposed Issuance of Letter of Offer Pursuant to Section 36(b)(1) of the Arms Export Control Act, as amended

(i) Prospective Purchaser: Government of Kuwait

(ii) Total Estimated Value:

Major Defense Equipment * | $ 62 million
Other | $132 million
Total | $194 million

(iii) Description and Quantity or Quantities of Articles or Services under Consideration for Purchase:

Major Defense Equipment (MDE): Six (6) AN/MPQ-64 Sentinel F1 Radars

Non-Major Defense Equipment (MDE): The Government of Kuwait requested a limited competition between three (3) U.S. vendors to procure a total of six (6) Short Range, Gap Filler Radars (e.g., AN/MPQ-64 Sentinel F1, AN/TPS-77, or AN/TPS-703) and one (1) Long Range Radar (e.g., AN/TPS-77 or AN/TPS-78). Only one of the radars under consideration, the AN/MPQ-64 is Major Defense Equipment (MDE). The remaining radars identified by Kuwait for consideration are non-MDE. Additionally, Kuwait is requesting one (1) Long Range Radar with Primary Surveillance Radar (PSR) and Secondary Surveillance Radar (SSR) capability on the Long Range Radar, upgrades to existing AN/FPS 117 (V) 3 Long Range Radars, upgrades to airfield radome and communications systems, upgrade secure Identification Friend or Foe (IFF) systems, site surveys, installation and checkout, site acceptance testing, interim contractor support, construction, contractor logistics support (CLS), spares, support equipment and training. Cost for additional non-MDE is $132 million. The total overall estimated cost is $194 million.

(iv) Military Department: Air Force (X7-D-DAB)

(v) Prior Related Cases, if any: None

(vi) Sales Commission, Fee, etc., Paid, Offered, or Agreed to be Paid: None

(vii) Sensitivity of Technology Contained in the Defense Article or Defense Services Proposed to be Sold: See Annex attached.

(viii) Date Report Delivered to Congress: October 13, 2016

* as defined in Section 47(6) of the Arms Export Control Act.

POLICY JUSTIFICATION

The Government of Kuwait-Radar Field System

The Government of Kuwait has requested a possible total sale of six (6) Short Range Radars, otherwise known as Gap Filler Radars, one (1) Long Range Radar with Primary Surveillance Radar (PSR) and Secondary Surveillance Radar (SSR) arrays, upgrades to existing AN/FPS 117 (V) 3 Long Range Radar, upgrades to airfield radome and communications systems, upgrade to secure Identification Friend or Foe (IFF) systems, site surveys, installation and checkout, site acceptance testing, interim contractor support, construction, contractor logistics support, spares, support equipment, and training. The total estimated value of this sale is $194 million.

The Government of Kuwait requested a limited competition between three (3) U.S. vendors to procure a total of six (6) Short Range, Gap Filler Radars (e.g., AN/MPQ-64 Sentinel F1, AN/TPS-77, or AN/TPS-703) and one (1) Long Range Radar (e.g., AN/TPS-77 or AN/TPS-78). Only one of the radars under consideration, the AN/MPQ-64 is Major Defense Equipment (MDE). The remaining radars identified by Kuwait for consideration are non-MDE.

This proposed sale supports U.S. Government national security goals by aiding a Major non-NATO Ally in the reduction of transnational threats, weapons proliferation, and the movement and support of international terrorists.

The Government of Kuwait desires the radar field system in order to improve early warning, enhance internal and external security, and protect national sovereignty. The system provides situational awareness for Kuwaiti security forces to detect and interdict fixed and rotary wing aircraft. This procurement provides coverage for Kuwait's northern and eastern boarders.

The prime contractor will be determined by competition between Lockheed Martin, Bethesda Maryland, Northrop Grumman, Falls Church, Virginia, and the Raytheon Company, Waltham, Massachusetts. There are no known offset agreements proposed in connection with this potential sale.

This procurement includes a small number of U.S. contractor system and maintenance advisors under a long-term operations and maintenance support package. The exact number of personnel and period of performance is yet to be finalized. This purchase will not substantially alter the U.S. Government presence in Kuwait.

There will be no adverse impact on U.S. defense readiness as a result of this proposed sale.

Transmittal No. 16-38

Notice of Proposed Issuance of Letter of Offer Pursuant to Section 36(b)(l) of the Arms Export Control Act

Annex

Item No. vii

(vii) Sensitivity of Technology:

1. The AN/MPQ-64 Sentinel Radar System is a fielded air defense radar system in the Army inventory. Sentinel is a derivative of the AN/TPQ-36 Firefinder System used for artillery detection and the AN/TPQ-36A Norwegian adapted Hawk system. Sentinel is a mobile, phased-array radar that provides highly accurate 3 dimensional radar track data to using systems via the Forward Area Air Defense (FAAD) Command, Control, and Intelligence (C2I) node. Sentinel acquires, tracks, and reports cruise missiles, unmanned aerial vehicles, fixed and rotary wing aircraft in clutter and electronic counter measures environments. The Sentinel Export configuration (AN/MPQ-64Fl) is a derivative of the U.S. Army's Improved Sentinel Radar.

2. The Sentinel consists of a radar-based sensor system with the M1152 HighMobility Multipurpose Wheeled Vehicle (HMMWV) as the prime mover and the MEP-1041 Advanced Mobile Medium Power Source (AMMPS) Tactical Quiet Generator as the power source. The sensor is an advanced battlefield radar capable of X Band air defense phased-array with an instrumented range of 75 kilometers with a rotating antenna providing 360 degree azimuth coverage for acquisition and tracking.

3. Sentinel has only one item currently designated Critical Program Information (CPI) and that is the Sentinel software modules containing routines for electronic counter-counter measures (ECCM) that have been determined to be a CPI.

4. These items are classified IAW EO 12958 section 1.5, Classification categories as category 1.5(e) because they contain scientific, technological, or economic matters relative to the national security. Reports, test data, and all Sentinel related media that discloses operational parameters, performance, characteristics, ECCM techniques, vulnerabilities, limitations or performance weaknesses shall be classified at the highest level based on the information being conveyed as referenced in the Sentinel Security Classification Guide. Distribution of technical performance and system capabilities reports and data shall only be released up to the CONFIDENTIAL level. It is not possible to obtain the Sentinel wartime reserved frequencies by reverse engineering, testing, or analyzing the unclassified Sentinel end item.

5. This sale is necessary in furtherance of the U.S. foreign policy and national security objectives outlined in the Policy Justification. Moreover, the benefits to be derived from this sale, as outlined in the Policy Justification, outweigh the potential damage that could result if the sensitive technology were revealed to unauthorized persons.

6. All defense articles and services listed in this transmittal are authorized for release and export to the Government of Kuwait.

[FR Doc. 2016-26711 Filed 11-3-16; 8:45 am]

BILLING CODE 5001-06-P